DEPARTMENT OF AGRICULTURE

Forest Service

Proposed New Recreation Fee Sites

AGENCY: Forest Service, Agriculture (USDA).

ACTION: Notice.

SUMMARY: The National Forests in North Carolina are proposing to establish several new recreation fee sites. Recreation fee revenues collected at the new recreation fee sites would be used for operation, maintenance, and improvement of the sites. An analysis of nearby recreation fee sites with similar amenities shows the recreation fees that would be charged at the new recreation fee sites are reasonable and typical of similar recreation fee sites in the area.

DATES: If approved, the new recreation fees would be implemented no earlier than six months following the publication of this notice in the Federal Register.

ADDRESSES: Recreation Fee Proposals, National Forests in North Carolina, 160A Zillicoa Street, Asheville, NC 28801.

FOR FURTHER INFORMATION CONTACT: Logan Free, Recreation Fee Coordinator, 828-257-4256 or SM.FS.NFsNCfees@usda.gov.

SUPPLEMENTARY INFORMATION: The Federal Lands Recreation Enhancement Act (16 U.S.C. 6803(b)) requires the Forest Service to publish a six-month advance notice in the Federal Register of establishment of new recreation fee sites. In accordance with Forest Service Handbook 2309.13, chapter 30, the Forest Service will publish the proposed new recreation fee sites in local newspapers and other local publications for public comment. Most of the new recreation fee revenues would be spent where they are collected to enhance the visitor experience at the new recreation fee sites.

An expanded amenity recreation fee of $50 per night for groups up to 50 people would be charged for the Yates Place Camp Group Campground. A standard amenity recreation fee of $5 per day per vehicle would be charged at Cedar Point Day and Flanners Beach developed recreation sites. The America the Beautiful—the National Parks and Federal Recreational Lands Pass would be honored at these standard amenity recreation fee sites. A special recreation permit fee of $5 per rider per day or a $30 annual pass is proposed for the Jackrabbit, Wood Run, and Pisgah Complex Trail Systems.

Expenditures from recreation fee revenues collected at the new recreation fee sites would enhance recreation opportunities, improve customer service, and address maintenance needs. Once public involvement is complete, the new recreation fees will be reviewed by a Recreation Resource Advisory Committee prior to a final decision and implementation. Reservations for group campgrounds could be made online at www.recreation.gov or by calling 877-444-6777. Reservations would cost $8.00 per reservation.

Dated: November 17, 2023.
Jacqueline Emanuel,
Associate Deputy Chief, National Forest System.

[FR Doc. 2023-25870 Filed 11-21-23; 8:45 am]

BILLING CODE 3411-15-P